DEPARTMENT OF ENERGY

Federal Energy Regulatory Commission

[ER08-1588-000; EL09-6-000]

Notice of Motion to Brief the Commission

May 8, 2009.

Kentucky Utilities Company | Docket No. ER08-1588-000.
Frankfort Electric and Water Plant Board | Docket No. EL09-6-000.
City of Barbourville, Kentucky
City of Bardstown, Kentucky
City of Bardwell, Kentucky
City of Benham, Kentucky
City of Berea, Kentucky
City of Corbin, Kentucky
City of Falmouth, Kentucky
City of Madisonville, Kentucky
City of Nicholasville, Kentucky
City of Paris, Kentucky
City of Providence, Kentucky
Complainants
v.
Kentucky Utilities Company
Respondent

On May 6, 2009, Kentucky Utilities Company and the Kentucky Municipals ¹ submitted a joint Motion to Brief the Commission on an Outstanding Issue in the above-captioned proceeding. The Commission provides notice that it will allow the parties to file briefs with the Commission. Initial briefs are due to the Commission by June 1, 2009; reply briefs are due to the Commission by July 1, 2009.

¹ The Kentucky Municipals are the Frankfort Electric and Water Plant Board, and the Cities of Barbourville, Bardstown, Bardwell, Benham, Berea, Corbin, Falmouth, Madisonville, Nicholasville, Paris, and Providence, Kentucky.

Kimberly D. Bose,
Secretary.

[FR Doc. E9-11340 Filed 5-14-09; 8:45 am]

BILLING CODE 6717-01-P